DEPARTMENT OF COMMERCE

National Oceanic and Atmospheric Administration

[RTID 0648-XE738]

Marine Mammals; File No. 26663

AGENCY: National Marine Fisheries Service (NMFS), National Oceanic and Atmospheric Administration (NOAA), Commerce.

ACTION: Notice; receipt of application for permit amendment.

SUMMARY: Notice is hereby given that Alaska Whale Foundation, P.O. Box 1927, Petersburg, AK 99833 (Responsible Party: Andy Szabo, Ph.D.), has applied for an amendment to Scientific Research Permit No. 26663-01.

DATES: Written comments must be received on or before June 12, 2025.

ADDRESSES: The application and related documents are available for review by selecting “Records Open for Public Comment” from the “Features” box on the Applications and Permits for Protected Species home page, https://apps.nmfs.noaa.gov, and then selecting File No. 26663 from the list of available applications. These documents are also available upon written request via email to NMFS.Pr1Comments@noaa.gov.

Written comments on this application should be submitted via email to NMFS.Pr1Comments@noaa.gov. Please include File No. 26663 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman at (301) 427-8401.

SUPPLEMENTARY INFORMATION: The subject amendment is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 26663, issued on January 20, 2024 (89 FR 9838, February 12, 2024), authorizes the research on humpback whales (Megaptera novaeangliae) and nine other cetacean species in southeast Alaska to study distribution, abundance trends, acoustic ecology, and health. Authorized research methods during vessel and unmanned aircraft surveys (UAS) include photo-id, photogrammetry, behavioral observations, underwater photography, passive acoustic recordings, acoustic playbacks, biological sampling (exhaled air, sloughed skin, fecal, skin and blubber biopsy), and suction-cup tags. Non-listed pinnipeds may be unintentionally harassed during research. One amendment to the permit changed the Responsible Party (No. 26663-01, February 26, 2025). The permit holder is requesting the permit be amended to increase takes of gray whales (Eschrichtius robustus) due to an increased presence in the study area. Annually up to 400 gray whales (an increase from 200) would be studied in the same manner as currently authorized for Level B harassment activities. Additionally, up to 100 gray whales could be biopsy sampled and 50 whales could be biopsy sampled and suction-cup tagged annually following the currently permitted methods for humpback whales. The applicant is also updating methods for suction-cup tags to include deployment by UAS. The permit expires on February 15, 2029.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 7, 2025.
Kimberly Damon-Randall,
Director, Office of Protected Resources, National Marine Fisheries Service.

[FR Doc. 2025-08380 Filed 5-12-25; 8:45 am]

BILLING CODE 3510-22-P